DEPARTMENT OF COMMERCE

Foreign-Trade Zones Board

[Order No. 1550]

Expansion of Foreign-Trade Zone 185 Culpeper County, VA

Pursuant to its authority under the Foreign-Trade Zones (FTZ) Act of June 18, 1934, as amended (19 U.S.C. 81a-81u), the Foreign-Trade Zones Board (the Board) adopts the following Order:

Whereas, the Culpeper County Chamber of Commerce, Inc., grantee of Foreign-Trade Zone No. 185, submitted an application to the Board for authority to expand FTZ 185 to include a site in Augusta County, Virginia, adjacent to the Front Royal Customs and Border Protection port of entry (FTZ Docket 23-2007, filed 7/13/2007);

Whereas, notice inviting public comment was given in the Federal Register (72 FR 40273, 7/24/2007) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to expand FTZ 185 is approved, subject to the Act and the Board's regulations, including section 400.28.

Signed at Washington, DC, this 7th day of March 2008.
David M. Spooner,
Assistant Secretary of Commerce for Import Administration, Alternate Chairman, Foreign-Trade Zones Board.
Attest:
Andrew McGilvray,
Executive Secretary.

[FR Doc. E8-5422 Filed 3-17-08; 8:45 am]

BILLING CODE 3510-DS-P